DEPARTMENT OF HEALTH AND HUMAN SERVICES

Centers for Disease Control and Prevention

[60Day-16-16AXC; Docket No. CDC-2016-0077]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed field survey to assess safety and health hazards to workers in oil and gas (O&G.) extraction.

DATES: Written comments must be received on or before October 11, 2016.

ADDRESSES: You may submit comments, identified by Docket No. CDC-2016-0077 by any of the following methods:

• Federal eRulemaking Portal: Regulations.gov. Follow the instructions for submitting comments.

• Mail: Jeffrey M. Zirger, Information Collection Review Office, Centers for Disease Control and Prevention, 1600 Clifton Road, NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Assessing Safety and Health Hazards to Workers in Oil and Gas Extraction: A Survey—New Information Collection Request—National Institute for Occupational Safety and Health (NIOSH), Centers for Disease Control and Prevention (CDC).

Background and Brief Description

The mission of the National Institute for Occupational Safety and Health (NIOSH) is to promote safety and health at work for all people through research and prevention. The Occupational Safety and Health Act, 91 (section 20[a] [1]), authorizes NIOSH to conduct research to advance the health and safety of workers. NIOSH is proposing a two year study to conduct a survey questionnaire of 500 land-based oil and gas (O&G) extraction workers in 5 U.S. states (Texas, North Dakota, Colorado, Oklahoma and a state in the Appalachian Basin) to examine safety and health issues and concerns of this workforce. Workers who drive as a part of their work duties will be asked to complete an additional set of questions about their driving environment and behaviors. We expect a response rate of 80%, so it is estimated that we will approach 625 workers in order to have 500 workers complete the survey.

The goals of this study are (1) To determine on-duty and off-duty factors that contribute to motor vehicle crashes, injuries and illness among U.S. land-based O&G extraction workers and (2) To identify other safety and health needs and concerns of U.S. land-based O&G extraction workers, a largely non-unionized workforce. The results of this study will guide the development of evidence-based and priority interventions and future research in the O&G extraction industry that will improve the safety and health of O&G workers.

Administration of the survey questionnaire will occur at temporary modular lodging facilities (`man camps'), training centers, equipment/trucking yards, well sites, and community centers in oilfield towns. A screening questionnaire, “Module 1: Screening” will be administered to 313 workers per year (for 2 years) to determine that the worker is eligible for the survey. This questionnaire will take about 5 minutes. NIOSH anticipates that up to 63 workers per year (20% of screened workers) will be eligible but not interested in participating in this study. These workers will be asked to complete a brief, 6-question “Non-Respondent Questionnaire”, which will take about 5 minutes. Approximately 250 workers per year (for 2 years) will be eligible and agree to participate in the study (80% response rate). These workers will complete “Module 2: General,” “Module 3: Well-site work,” and “Module 5: Closing Questions” (approximately 225 workers will use the tablet version and 25 will opt to use the hardcopy version). “Module 5: Closing Questions” includes a brief interview with program staff. The questionnaire and interview will take approximately 25 minutes to complete for workers using the tablet as well as for those using the hardcopy version. Workers who drive a company vehicle will also be asked to complete “Module 4: Motor Vehicle.” An estimated 75% of the workers will complete the driving portion of the survey (187 workers). This module will take approximately 5 additional minutes to complete for those using the tablet (approximately 168 workers per year)as well as 5 minutes for those completing the hardcopy version (19 workers per year).

Comments submitted in response to this notice will be reviewed and addressed prior to OMB application submission. There is no cost to respondents other than their time. The estimated annualized burden hours for this data collection are 154 hours.

Estimated Annualized Burden Hours
Type of respondents | Form name | Number of respondents | Number of responses per respondent | Average burden per response (in hrs.) | Total burden (in hrs.)
Presumed O&G Extraction Workers | Module 1: Screening | 313 | 1 | 5/60 | 27
O&G Extraction Workers | Non Respondent Questionnaire | 63 | 1 | 5/60 | 6
O&G Extraction Workers | Tablet Version Modules 2: General Module 3: Well Site Work, and Module 5: Closing Questions | 225 | 1 | 25/60 | 94
O&G Extraction Workers | Hardcopy Version Modules 2: General Module 3: Well Site Work, and Module 5: Closing Questions | 25 | 1 | 25/60 | 11
O&G Extraction Workers who drive at work | Tablet Version Module 4: Motor Vehicle | 168 | 1 | 5/60 | 14
O&G Extraction Workers who drive at work | Hardcopy Version Module 4: Motor Vehicle | 19 | 1 | 5/60 | 2
Total |  |  |  |  | 154

Jeffrey M. Zirger,
Acting Chief, Information Collection Review Office, Health Scientist, Office of Scientific Integrity, Office of the Associate Director for Science, Office of the Director, Centers for Disease Control and Prevention.

[FR Doc. 2016-18940 Filed 8-9-16; 8:45 am]

BILLING CODE 4163-18-P